DEPARTMENT OF THE INTERIOR

Fish and Wildlife Service

Intent To Prepare an Environmental Impact Statement for the Development of Natural Gas Resources in the Kenai National Wildlife Refuge, Alaska

AGENCY: U.S. Fish and Wildlife Service, Interior.

ACTION: Notice.

SUMMARY: This notice advises the public that the U.S. Fish and Wildlife Service (USFWS) intends to gather information necessary for the preparation of an environmental impact statement (EIS) in response to a right-of-way application for construction of facilities associated with exploration and production of natural gas. The proposed project would be located in the Kenai National Wildlife Refuge, Alaska, in the northwest section of the Kenai Peninsula, in two areas collectively known as Swanson River Satellites. The East Swanson area is approximately 5 miles east of the Swanson River Unit (T8N, R8W, SM). The North Swanson area encompasses the Birch Hill Unit, and is approximately 3 miles northeast of the northern Swanson River Unit boundary (T9N, R9W, SM). A series of public meetings will be held during the preparation of the EIS. Notice of the dates, times, and locations of these public meetings will be advertised in local publications prior to the event. This notice is being furnished as required by the National Environmental Policy Act (NEPA) Regulations (40 CFR 1501.7) to obtain suggestions and information from other agencies and the public on the scope of issues to be addressed in the EIS.

DATES: The public meeting dates are:

1. March 13, 2001, 7 p.m., Anchorage, Alaska.

2. March 15, 2001, 7 p.m., Soldotna, Alaska.

Written comments should be received by March 30, 2001.

ADDRESSES: The public meeting locations are:

1. Anchorage—Spenard Community Recreation Center, 2020 W. 48th Avenue, Anchorage, Alaska 99517.

2. Soldotna—Soldotna Senior Center, 197 W. Park Avenue, Soldotna, Alaska 99669.

Comments should be addressed to: Regional Director, Region 7, U.S. Fish and Wildlife Service, 1011 E. Tudor Rd., Anchorage, Alaska 99503.

FOR FURTHER INFORMATION CONTACT: Brian L. Anderson, (907) 786-3379.

SUPPLEMENTARY INFORMATION: Union Oil Company of California d.b.a. Unocal has applied for a right-of-way grant to construct facilities, including roads, pipelines, drill pads, and other facilities necessary for exploration and production of natural gas resources within the Kenai National Wildlife Refuge, a Conservation System Unit established by the Alaska National Interest Lands Conservation Act (ANILCA) (Sec. 303, Pub. L. 96-487, 16 U.S.C.668dd). The right-of-way application will be evaluated under regulations (43 CFR 36) implementing Title XI of ANILCA, Transportation and Utility Systems in and Across, and Access into, Conservation System Units in Alaska.

Most of the surface estate within the project area is owned by the United States and is managed by the USFWS, although a portion of the surface estate involved has been conveyed to the Tyonek Native Corporation. The subsurface oil, gas and coal mineral estate is owned by Cook Inlet Region Incorporated (CIRI), with the exception of the Birch Hill Unit, where these minerals are leased from the United States. Under Title XI, CIRI is entitled to adequate and feasible access to their valid inholding for economic and other purposes, subject to reasonable regulations necessary to protect the natural and other values of the refuge. Unocal has leased the natural gas development rights from CIRI and the United States.

Unocal proposes to develop natural gas exploration and production from up to three locations in the North Swanson area, and from up to three locations in the East Swanson area. The proposed road and pipeline rights-of-way for both East and North Swanson satellites total 13 miles in length and will include primary and secondary product pipelines, a water disposal pipeline, and communications and electric power lines. Proposed roads will be maintained to provide access to well sites. In addition to natural gas wells, a water well and drainage sump will be installed at each site.

The USFWS has determined that an EIS will be prepared to evaluate the potential direct, secondary, and cumulative impacts of constructing the proposed project, and to identify alternatives that would protect the resources of the Kenai National Wildlife Refuge. The environmental review will be conducted in accordance with the requirements of NEPA (42 U.S.C. 4371 et seq.) as implemented by the Council on Environmental Quality regulations at 40 CFR 1500-1508, and the pertinent regulations of USFWS. Upon completion of the Draft EIS, a Notice of Availability will be published in the Federal Register.

David B. Allen,
Regional Director, Region 7, Fish and Wildlife Service.

[FR Doc. 01-4699 Filed 2-26-01; 8:45 am]

BILLING CODE 4310-55-P